OFFICE OF THE UNITED STATES TRADE REPRESENTATIVE

Request for Public Comments on Review of Employment Impact of the Trans-Pacific Partnership

AGENCY: Office of the United States Trade Representative.

ACTION: Notice of intent to conduct an employment impact review of the Trans-Pacific Partnership and request for comments.

SUMMARY: The Office of the United States Trade Representative (USTR) and the Department of Labor (DOL), through the Trade Policy Staff Committee (TPSC), are initiating an employment impact review of the Trans-Pacific Partnership (TPP) Agreement. USTR is seeking public comments on the impact of the TPP Agreement on U.S. employment, including labor markets.

DATES: Written comments are due by Wednesday, January 13, 2016.

ADDRESSES: Written comments should be submitted electronically via the Internet at www.regulations.gov. If you are unable to provide submissions at www.regulations.gov, please contact Yvonne Jamison, TPSC, at (202) 395-3475, to arrange for an alternative method of transmission.

FOR FURTHER INFORMATION CONTACT: For procedural questions concerning written comments, contact Yvonne Jamison at (202) 395-3475. All other questions should be directed to Greg Schoepfle, Director, Office of Economic and Labor Research, Bureau of International Labor Affairs, U.S. Department of Labor, 200 Constitution Avenue NW., Washington, DC 20210, telephone (202) 693-4887 or Lewis Karesh, Assistant United States Trade Representative for Labor, Office of the United States Trade Representative, 600 17th Street NW., Washington, DC 20508, telephone (202) 395-3330.

SUPPLEMENTARY INFORMATION:

1. Background

On November 5, 2015, consistent with Trade Promotion Authority (Title I of the Bipartisan Congressional Trade Priorities and Accountability Act of 2015, Pub. L. 114-26) (19 U.S.C. 4201 et seq.) (“the Act”), the President notified Congress of his intent to enter into the Trans-Pacific Partnership (TPP) Agreement. Also on November 5, 2015, USTR requested that the U.S. International Trade Commission (USITC) prepare a report as specified in section 105(c)(2)-(3) of the Act assessing the likely impact of the TPP Agreement on the U.S. economy as a whole and on specific industry sectors and the interests of U.S. consumers. On November 17, 2015, the USITC announced that it was instituting an investigation of the likely impact of the TPP Agreement on the U.S. economy as a whole and on specific industry sectors and the interests of U.S. consumers.

2. Employment Impact Review

Section 105(d)(2) of the Act directs the President to “(A) review the impact of future trade agreements on United States employment, including labor markets, modeled after Executive Order No. 13141 (64 FR 63169) to the extent appropriate in establishing procedures and criteria; and (B) submit a report on such reviews to the Committee on Ways and Means of the House of Representatives and the Committee on Finance of the Senate at the time the President submits to Congress a copy of the final legal text of an agreement pursuant to section 106(a)(1)(E).” USTR and DOL are conducting the employment impact review through the TPSC.

Comments may be submitted on potentially significant sectoral or regional employment impacts in the United States as well as other likely labor market impacts of the TPP Agreement. Persons submitting comments should provide as much detail as possible in support of their submissions.

3. Requirements for Submissions

Persons submitting written comments must do so in English and must identify (on the first page of the submission) “TPP Employment Impact Review.”

In order to ensure the timely receipt and consideration of comments, USTR strongly encourages commenters to make on-line submissions, using the www.regulations.gov Web site. To submit comments via www.regulations.gov, enter docket number USTR-2015-0012 on the home page and click “search.” The site will provide a search-results page listing all documents associated with this docket. Find a reference to this notice and click on the link entitled “Comment Now!” (For further information on using the www.regulations.gov Web site, please consult the resources provided on the Web site by clicking on “How to Use This Site” on the left side of the home page.)

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in an application other than those two, please indicate the name of the application in the “Type Comment” field.

For any comments submitted electronically containing business confidential information, the file name of the business confidential version should begin with the characters “BC.” Any page containing business confidential information must be clearly marked “BUSINESS CONFIDENTIAL” on the top of that page. Filers of submissions containing business confidential information must also submit a public version of their comments. The file name of the public version should begin with the character “P.” The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted above, USTR strongly urges submitters to file comments through www.regulations.gov, if at all possible. Any alternative arrangements must be made with Yvonne Jamison in advance of transmitting the comment. Ms. Jamison should be contacted at (202) 395-3475. General information concerning USTR is available at www.ustr.gov.

Comments will be placed in the docket and open to public inspection, except business confidential information. Comments may be viewed on the www.regulations.gov Web site by entering the relevant docket number in the search field on the home page.

Edward Gresser,
Acting Chair, Trade Policy Staff Committee.

[FR Doc. 2015-32294 Filed 12-24-15; 8:45 am]

BILLING CODE 3290-F6-P